DEPARTMENT OF ENERGY

10 CFR Part 430

[Docket Number EERE-2014-BT-STD-0036]

RIN 1904-AD35

Energy Conservation Program for Consumer Products: Energy Conservation Standards for Hearth Products

AGENCY: Office of Energy Efficiency and Renewable Energy, Department of Energy.

ACTION: Notice of proposed rulemaking; extension of public comment period.

SUMMARY: The U.S. Department of Energy (DOE) has published a notice of proposed rulemaking (NOPR) and TSD (technical support document) that analyzes the potential economic impacts and energy savings that could result from potential energy conservation standards for hearth products. DOE published this NOPR and analysis so stakeholders can review the relevant outputs and the underlying assumptions and calculations. After receiving a request for additional time to comment, DOE has decided to extend the comment period for the NOPR pertaining to the energy conservation standards for hearth products until May 11, 2015.

DATES: The comment period on the NOPR and TSD pertaining to the energy conservation standards for hearth products published in the Federal Register on February 9, 2015 (80 FR 7082) is extended, and comments must be postmarked by no later than May 11, 2015.

ADDRESSES:

Instructions: Any comments submitted must identify the NOPR for Energy Conservation Standards for Hearth Products, and provide docket number EERE-2014-BT-STD-0036 and/or regulatory information number (RIN) number 1904-AD35. Comments may be submitted using any of the following methods:

1. Federal eRulemaking Portal: www.regulations.gov. Follow the instructions for submitting comments.

2. Email: HearthHeatingProd2014STD0036@ee.doe.gov. Include the docket number and/or RIN in the subject line of the message. Submit electronic comments in Word Perfect, Microsoft Word, PDF, or ASCII file format, and avoid the use of special characters or any form on encryption.

3. Postal Mail: Ms. Brenda Edwards, U.S. Department of Energy, Building Technologies Office, Mailstop EE-5B, 1000 Independence Avenue SW., Washington, DC 20585-0121. If possible, please submit all items on a compact disc (CD), in which case it is not necessary to include printed copies.

4. Hand Delivery/Courier: Ms. Brenda Edwards, U.S. Department of Energy, Building Technologies Office, 950 L'Enfant Plaza SW., Suite 600, Washington, DC 20024. Telephone: (202) 586-2945. If possible, please submit all items on a CD, in which case it is not necessary to include printed copies.

No telefacsimilies (faxes) will be accepted. For detailed instructions on submitting comments and additional information on the rulemaking process, see the Public Participation section of the February 9, 2015 NOPR.

Docket: The docket, which will include all relevant Federal Register notices, public meeting attendee lists and transcripts, comments, and other supporting documents/materials, is available for review at www.regulations.gov. All documents in the docket are listed in the www.regulations.gov index. However, some documents listed in the index may not be publically available, such as those containing information that is exempt from public disclosure.

A link to the docket Web page can be found at: http://www1.eere.energy.gov/buildings/appliance_standards/rulemaking.aspx?ruleid=84. This Web page contains a link to the docket for this notice on the www.regulations.gov site. The www.regulations.gov Web page contains simple instructions on how to access all documents, including public comments, in the docket. See section VII, “Public Participation,” of the NOPR for further information on how to submit comments through www.regulations.gov.

For further information on how to submit a comment, review other public comments and the docket, or participate in the public meeting, contact Ms. Brenda Edwards at (202) 586-2945 or by email: Brenda.Edwards@ee.doe.gov.

FOR FURTHER INFORMATION CONTACT:

Mr. John Cymbalsky, U.S. Department of Energy, Office of Energy Efficiency and Renewable Energy, Building Technologies Office, EE-5B, 1000 Independence Avenue SW., Washington, DC 20585-0121. Telephone: (202) 287-1692. Email: hearth_products@ee.doe.gov.

Mr. Eric Stas, U.S. Department of Energy, Office of the General Counsel, GC-33, 1000 Independence Avenue SW., Washington, DC 20585-0121. Telephone: (202) 586-9507. Email: Eric.Stas@hq.doe.gov.

SUPPLEMENTARY INFORMATION: DOE published a NOPR in the Federal Register to make available and invite public comments on its analysis regarding potential energy conservation standards for hearth products. 80 FR 7082 (Feb. 9, 2015). The document set a deadline for the submission of written comments by April 10, 2015. RH Peterson Co. requested an extension of the public comment period, stating that additional time is necessary to review the published analysis in order to prepare and submit comments. DOE has determined that extending the comment period to allow additional time for interested parties to submit comments is appropriate based on the foregoing reason. DOE believes that extending the comment period by 30 days will provide the public with sufficient time to submit comments responding to DOE's analysis. Accordingly, DOE will consider any comments postmarked by May 11, 2015, and deems any comments received by that date to be timely submitted.

Issued in Washington, DC, on April 1, 2015.
Kathleen B. Hogan,
Deputy Assistant Secretary for Energy Efficiency, Energy Efficiency and Renewable Energy.

[FR Doc. 2015-08154 Filed 4-9-15; 4:15 pm]

BILLING CODE 6450-01-P